NUCLEAR REGULATORY COMMISSION

Advisory Committee on the Medical Uses of Isotopes: Meeting Notice

AGENCY: U.S. Nuclear Regulatory Commission.

ACTION: Notice of Meeting.

SUMMARY: NRC will convene a teleconference meeting of the Advisory Committee on the Medical Uses of Isotopes (ACMUI) on July 9, 2012. The purpose of the meeting will be to discuss the radium-223 chloride subcommittee report. NRC will also convene a regular meeting of the ACMUI on September 20-21, 2012. A sample of agenda items to be discussed during the public session includes: (1) Reducing occupational dose limits; (2) status of data collection on patient release; (3) status update on 10 CFR part 35 rulemaking; (4) status update on proposed regulatory changes for permanent implant brachytherapy programs; (5) follow-up on ACMUI reporting structure; and (6) update on domestic production of molybdenum-99. The regular meeting agenda is subject to change. The current agendas for both meetings and any updates will be available prior to the meetings at http://www.nrc.gov/reading-rm/doc-collections/acmui/agenda or by emailing Ms. Ashley Cockerham at the contact information below.

Purpose: Discuss issues related to 10 CFR Part 35 Medical Use of Byproduct Material.

Date and Time for Teleconference Meeting: July 9, 2012, from 11:00 a.m. to 12:00 p.m.

Date and Time for Regular Meeting Closed Session: September 20, 2012, from 8:30 a.m. to 11:30 a.m. This session will be closed for ACMUI training.

Date and Time for Regular Meeting Open Sessions: September 20, 2012, from 1:00 p.m. to 5:00 p.m. and September 21, 2012, from 8:30 a.m. to 12:00 p.m. Regular meeting times are subject to change.

Address for Regular Meeting: U.S. Nuclear Regulatory Commission, Two White Flint North Building, Room T2-B3, 11545 Rockville Pike, Rockville, Maryland 20852.

Public Participation: Any member of the public who wishes to participate in the meetings in person or via phone should contact Ms. Cockerham using the information below. The regular meeting on September 20-21 will also be webcast live at http://video.nrc.gov.

Contact Information: Ashley Cockerham, email: ashley.cockerham@nrc.gov, telephone: (240) 888-7129.

Conduct of the Meeting

Leon S. Malmud, M.D., will chair the meeting. Dr. Malmud will conduct the meeting in a manner that will facilitate the orderly conduct of business. The following procedures apply to public participation in the meeting:

1. Persons who wish to provide a written statement should submit an electronic copy to Ms. Cockerham at the contact information listed above. All submittals must be received five business days prior to the meeting and must pertain to the topic on the agenda for the meeting.

2. Questions and comments from members of the public will be permitted during the meeting at the discretion of the Chairman.

3. The draft transcripts will be available on ACMUI's Web site (http://www.nrc.gov/reading-rm/doc-collections/acmui/tr/) within 30 business days of the meeting. A meeting summary will be available on ACMUI's Web site (http://www.nrc.gov/reading-rm/doc-collections/acmui/meeting-summaries/) within 30 business days of the meeting.

4. Persons who require special services, such as those for the hearing impaired, should notify Ms. Cockerham of their planned attendance.

This meeting will be held in accordance with the Atomic Energy Act of 1954, as amended (primarily Section 161a); the Federal Advisory Committee Act (5 U.S.C. App); and the Commission's regulations in Title 10, U.S. Code of Federal Regulations, Part 7.

Dated: June 14, 2012.
Andrew L. Bates,
Advisory Committee Management Officer.

[FR Doc. 2012-15173 Filed 6-20-12; 8:45 am]

BILLING CODE 7590-01-P